DEPARTMENT OF THE INTERIOR

Bureau of Reclamation

[RR01113000, XXXR0680R1, RR.R0336A1R.7WRMP0032]

Notice of Availability of a Final Environmental Impact Statement for the Kachess Drought Relief Pumping Plant and Keechelus Reservoir-to-Kachess Reservoir Conveyance, Kittitas and Yakima Counties, Washington

AGENCY: Bureau of Reclamation, Interior.

ACTION: Notice of availability.

SUMMARY: The Bureau of Reclamation and Washington State Department of Ecology (Ecology) have prepared and made available the Kachess Drought Relief Pumping Plant and Keechelus Reservoir-to-Kachess Reservoir Conveyance Final Environmental Impact Statement (FEIS).

DATES: Reclamation will not make a decision on the proposed action until at least 30 days after the Environmental Protection Agency publishes a notice of availability for this FEIS in the Federal Register. Following this 30-day period, Reclamation may complete a Record of Decision (ROD). The ROD will identify all the alternatives considered, including the environmentally preferable alternative and the action selected for implementation, if they are not the same. The ROD will also discuss the factors and rationale used in making the decision; provide information on the adopted means to avoid, minimize and compensate for environmental impacts; describe any monitoring and enforcement program to ensure that adopted mitigation is accomplished; and address any significant comments received on the FEIS.

ADDRESSES: Written comments or requests for copies of the FEIS should be addressed to Ms. Candace McKinley, Bureau of Reclamation, 1917 Marsh Road, Yakima, WA 98901, 509-573-8193 or via email to kkbt@usbr.gov. The FEIS is also accessible on the following websites: http://www.usbr.gov/pn/programs/eis/kdrpp/index.html and http://www.usbr.gov/pn/programs/eis/kkc/index.html.

FOR FURTHER INFORMATION CONTACT: Ms. Candace McKinley, (509) 573-8193 or by email at kkbt@usbr.gov.

SUPPLEMENTARY INFORMATION: The Bureau of Reclamation published a Notice of Availability of a Draft EIS (DEIS) for the “Kachess Drought Relief Pumping Plant and Keechelus Reservoir-to-Kachess Reservoir Conveyance” in the Federal Register on January 9, 2015 (80 FR 1431). This was previously identified in the Notice of Intent to Prepare an EIS as the “Keechelus Reservoir-to-Kachess Reservoir Conveyance and Kachess Inactive Storage.” The name was changed to better reflect the proposed action and alternatives evaluated. The public comment period concluded on June 15, 2015. A Supplemental DEIS was released for public comment on April 13, 2018. The public comment period ended July 12, 2018. The FEIS, entitled, “Kachess Drought Relief Pumping Plant and Keechelus Reservoir-to-Kachess Reservoir Conveyance Final Environmental Impact Statement,” addresses the impacts associated with the Kachess Drought Relief Pumping Plant (KDRPP) and Keechelus Reservoir-to-Kachess Reservoir Conveyance (KKC) by expanding on the analysis conducted in the Yakima River Basin Integrated Water Resource Management Plan (Integrated Plan) Programmatic Environmental Impact Statement (March 2012).

The FEIS evaluates construction and operation of three alternative designs and locations for KDRPP, including reservoir intakes and tunnels, pumping plants and pump units, pipelines, surge tanks, outlet works, fish screens and barriers, power supply substations, and electric transmission lines. The FEIS also evaluates construction and operation of the KKC as a component of KDRPP, including the Yakima River diversion and intake, fish screen, bored tunnel, and spillway and stilling basin.

The primary study area generally encompasses Kachess Reservoir and its tributaries, Keechelus Reservoir and its tributaries, the Kachess River, the Yakima River between Keechelus Dam and the Easton Diversion Dam near Lake Easton, and the electric transmission line route from near Easton to the Kachess Reservoir pumping plant. The extended study area generally includes the Yakima Project vicinity.

Authority

The Kachess and Keechelus Reservoirs were authorized on December 12, 1905, by the Secretary of the Interior in connection with the Tieton and Sunnyside Divisions of the Yakima Project. The Secretary was acting under authority of the Reclamation Act of June 17, 1902. The Yakima River Basin Water Enhancement Project was authorized on December 28, 1979 (93 Stat. 1241, Pub. L. 96-162, Feasibility Study—Yakima River Basin Water Enhancement Project). Title XII of the Yavapai-Prescott Indian Tribe Water Rights Settlement Act of 1994 (108 Stat. 4526 Pub. L. 103-434) authorized fish, wildlife, and recreation as additional purposes of the Yakima Project.

Public Review of FEIS

Copies of the FEIS are available for public review at the following locations:

1. Bureau of Reclamation, Columbia-Cascades Area Office, 1917 Marsh Road, Yakima, Washington 98901.

2. Washington State Department of Ecology, 15 W Yakima Avenue, Suite 200, Yakima, Washington 98902.

Public Disclosure

Before including your address, phone number, email address, or other personal identifying information in your comment, you should be aware that your entire comment—including your personal identifying information—may be made publicly available at any time. While you can ask us in your comment to withhold your personal identifying information from public review, we cannot guarantee that we will be able to do so.

Lorri J. Gray,
Regional Director, Pacific Northwest Region.

[FR Doc. 2019-04295 Filed 3-14-19; 8:45 am]

BILLING CODE 4332-90-P